Title 3—

The President

Proclamation 10249 of September 3, 2021

National Historically Black Colleges and Universities Week, 2021

By the President of the United States of America

A Proclamation

Since 1837, Historically Black Colleges and Universities (HBCUs) have educated and prepared millions of people to lift up our Nation and make their impact on the world. These essential institutions have been critical engines of opportunity for generations of American families—they are incubators of excellence, helping to shape the story of our Nation and deliver on the promise of a more perfect Union. During National Historically Black Colleges and Universities Week, we celebrate the vital role that HBCUs play in molding Black leaders and ensuring that America continues to move closer to reaching its full potential.

From Delaware State—which has always held a special place in my heart—to more than 100 institutions across the country, HBCU graduates are the bearers of a proud and sacred tradition. It is the tradition of the Reverend Dr. Martin Luther King, Jr., and Thurgood Marshall, of Toni Morrison and Langston Hughes, of Reverend Jesse Jackson and Reverend William Barber. It is the tradition of countless scholars and advocates; leaders of industry, arts, and sciences; and leaders of faith and community. It is the tradition of trailblazers—including the first HBCU graduate elected to the Vice Presidency, Kamala Harris. It is a tradition rooted in a fundamental belief that quality education is a right that belongs to all people—that every single American should have a fair and equal chance to go as far as their God-given talents can take them.

Opposition to that belief has been a stain on our Nation since its founding. After President Lincoln signed the Emancipation Proclamation, Black Americans were still subjected to persistent legal and social discrimination. Laws were enacted to stifle their progress, including laws that denied Black Americans access to the same educational opportunities as white Americans. Across the generations since, progress has been won. Racial segregation of public schools was struck down by the Supreme Court in a case successfully argued by HBCU graduates. The Civil Rights Act of 1964 prohibited discrimination in public accommodations and federally-funded programs. Over time, hearts and minds have been changed. For more than 180 years, HBCUs have been on the forefront of that progress.

Still, the wound—and the reality—of systemic racism remains. We see it in our education system, our labor force, our health care system, our criminal justice system, and in so many other corners of our society. We see it in the COVID-19 pandemic, which revealed and exacerbated longstanding disparities in areas like food security, internet access, and medical care. For Black women and girls, LGBTQ+ Black Americans, and Black Americans with disabilities—we see it compounded with other forms of discrimination and bias. As they have throughout their existence, HBCUs have risen to the occasion to serve their students and communities over the last year and a half—helping to develop breakthrough treatments, hosting life-saving COVID-19 vaccination sites, and nurturing movements for justice and equality.

My Administration stands with HBCUs and is committed to the fundamental American promise they represent: that all of us are created equal and have a right to be treated equally throughout our lives. Too many times throughout our history, we have allowed a narrow, cramped view of that promise to fester—the false idea that America is a zero-sum game of opportunity, where a person can only lift themselves up by holding others down. It is critical that we shed that flawed way of thinking and finally embrace what we know to be true: that when any one of us is held back, we are all held back, and when we lift each other up, we are all lifted up.

That idea—the defining idea of America—is why I issued an Executive Order on my first day in office establishing a whole-of-government approach to equity and racial justice. It is why I have built the most diverse Cabinet in history, why I am appointing Black judges to the Federal judiciary at an historic rate, and why we are continuing to build an Administration that truly looks like America.

It is also why we will continue to support HBCUs in their vital mission. Imagine how much more creative and innovative America would be if our HBCUs had the same funding and resources as other institutions—allowing young people from every community to compete for the jobs and industries of the future. To help make that a reality, my Administration has proposed approximately $239 million in new institutional aid funding for HBCUs in the Department of Education budget for next year, including $72 million in new discretionary funding for HBCUs. In addition, my Administration has proposed approximately $167 million in new mandatory funding for HBCUs and to provide 2 years of subsidized tuition and expand programs in high-demand fields at HBCUs.

I today signed an Executive Order establishing the White House Initiative on Advancing Educational Equity, Opportunity, and Excellence through Historically Black Colleges and Universities, which will create a Government-wide approach to support the needs of HBCUs and the communities they serve and eliminate systemic barriers impeding HBCU participation in Federal programs.

This is only the beginning of our work to support HBCUs and the remarkable students they empower and grow. This week and every week, we will continue to celebrate and advance the historic and ongoing success of our HBCUs—because we know that their success is America's success.

NOW, THEREFORE, I, JOSEPH R. BIDEN JR., President of the United States of America, by virtue of the authority vested in me by the Constitution and the laws of the United States, do hereby proclaim September 5 through September 11, 2021, as National Historically Black Colleges and Universities Week. I call upon educators, public officials, professional organizations, corporations, and all Americans to observe this week with appropriate programs, ceremonies, and activities that acknowledge the countless contributions these institutions and their alumni have made to our country.

IN WITNESS WHEREOF, I have hereunto set my hand this third day of September, in the year of our Lord two thousand twenty-one, and of the Independence of the United States of America the two hundred and forty-sixth.

[FR Doc. 2021-19575

Filed 9-8-21; 8:45 am]

Billing code 3295-F1-P